DEPARTMENT OF LABOR

Employment and Training Administration

[TA-W-64,806]

Garvin Industries, a Division of Guarantee Specialties, Inc. Including On-Site Leased Workers From Meadville Staffing/Career Concepts, Adamsville, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 13, 2009, applicable to workers of Garvin Industries, a division of Guarantee Specialties, Inc., Adamsville, Pennsylvania. The notice was published in the Federal Register on April 30, 2009 (74 FR 19996).

At the request of the State agency, the Department reviewed the certification for workers of the subject firm. The workers are engaged in the production of gaskets and seals for the automotive industry.

The review of the investigation record shows that the Department inadvertently excluded from the certification on-site leased workers from Meadville Staffing/Career Concepts. The Department has determined that these workers were sufficiently under the control of the subject to be considered leased workers.

The intent of the Department's certification is to include all workers of the Adamsville, Pennsylvania location of the subject firm who were secondarily affected as a supplier of gaskets and seals for the automobile industry.

Accordingly, the Department is amending this certification to include workers leased from Meadville Staffing/Career Concepts working on-site at the Adamsville, Pennsylvania location of the subject firm.

The amended notice applicable to TA-W-64,806 is hereby issued as follows:

All workers of Garvin Industries, a division of Guarantee Specialties, Inc., including on-site leased workers from Meadville Staffing/Career Concepts, Adamsville, Pennsylvania, who became totally or partially separated from employment on or after January 2, 2008 through April 13, 2011, are eligible to apply for adjustment assistance under Section 223 of the Trade Act of 1974, and are also eligible to apply for alternative trade adjustment assistance under Section 246 of the Trade Act of 1974.

Signed at Washington, DC, this 29th day of June 2009.
Linda G. Poole,
Certifying Officer, Division of Trade Adjustment Assistance.

[FR Doc. E9-16607 Filed 7-13-09; 8:45 am]

BILLING CODE 4510-FN-P